NATIONAL AERONAUTICS AND SPACE ADMINISTRATION

[NOTICE: 23-087]

Privacy Act of 1974; System of Records

AGENCY: National Aeronautics and Space Administration (NASA).

ACTION: Notice of a modified system of records.

SUMMARY: Pursuant to the provisions of the Privacy Act of 1974, the National Aeronautics and Space Administration is issuing public notice of its proposal to make minor modifications to the previously noticed system of records, Reasonable Accommodation (RA) Records/NASA 10RAR. Further details are set forth below under the caption SUPPLEMENTARY INFORMATION.

DATES: Submit comments within 30 calendar days from the date of this publication. The changes will take effect at the end of that period if no adverse comments are received.

ADDRESSES: Bill Edwards-Bodmer, Privacy Act Officer, Office of the Chief Information Officer, National Aeronautics and Space Administration Headquarters, Washington, DC 20546-0001, (757) 864-7998, NASA-PAOfficer@nasa.gov.

FOR FURTHER INFORMATION CONTACT: NASA Privacy Act Officer, Bill Edwards-Bodmer, (757) 864-7998, NASA-PAOfficer@nasa.gov.

SUPPLEMENTARY INFORMATION:

This notice incorporates minor textual edits to NASA Standard Routine Uses and minor formatting revisions to align with OMB guidance.

William Edwards-Bodmer,
NASA Privacy Act Officer.

SYSTEM NAME AND NUMBER:

Reasonable Accommodation (RA) Records, NASA 10RAR.

SECURITY CLASSIFICATION:

Unclassified.

SYSTEM LOCATION:

Amazon Web Services, 410 Terry Avenue North, Seattle, WA 98109,

Mary W. Jackson NASA Headquarters, Washington, DC 20546-0001;

Ames Research Center (NASA), Moffett Field, CA 94035-1000;

Armstrong Flight Research Center (NASA), PO Box 273, Edwards, CA 93523-0273;

John H. Glenn Research Center at Lewis Field (NASA), 21000 Brookpark Road, Cleveland, OH 44135-3191;

Goddard Space Flight Center (NASA), Greenbelt, MD 20771-0001;

Lyndon B. Johnson Space Center (NASA), Houston, TX 77058-3696;

John F. Kennedy Space Center (NASA), Kennedy Space Center, FL 32899-0001;

Langley Research Center (NASA), Hampton, VA 23681-2199;

George C. Marshall Space Flight Center (NASA), Marshall Space Flight Center, AL 35812-0001;

John C. Stennis Space Center (NASA), Stennis Space Center, MS 39529-6000; NASA Shared Services Center (NSSC), Building 5100, Stennis Space Center, MS 39529-6000; and Wallops Flight Facility (NASA), Wallops Island, VA 23337.

SYSTEM MANAGER(S):

Associate Administrator, Office of Diversity and Equal Opportunity (ODEO), NASA Headquarters (see System Location above for address).

Subsystem Managers: ODEO Director, Diversity and Data Analytics Division; and Agency Disability Program Manager at NASA Headquarters (see System Location above for address);

Center ODEO Directors and Center Disability Program Managers, at:

NASA Ames Research Center (see System Location above for address);

NASA Armstrong Flight Research Center (see System Location above for address);

NASA Glenn Research Center (see System Location above for address);

NASA Goddard Space Flight Center (see System Location above for address);

NASA Headquarters (see System Location above for address);

NASA Johnson Space Center (see System Location above for address);

NASA Kennedy Space Center (see System Location above for address);

NASA Langley Research Center (see System Location above for address);

NASA Marshall Space Flight Center (see System Location above for address);

NASA Stennis Space Center (see System Location above for address);

NASA Shared Services Center (NSSC) (see System Location above for address); and Wallops Flight Facility (see System Location above for address).

AUTHORITY FOR MAINTENANCE OF THE SYSTEM:

29 U.S.C. 791 et seq.; 42 U.S.C. 12101 et seq.; 42 U.S.C. 2000e et seq.; 44 U.S.C. 3101; 51 U.S.C. 20113(a); E.O. 11478; E.O. 13164; 29 CFR part 1605; 29 CFR part 1614; 29 CFR part 1630.

PURPOSE(S) OF THE SYSTEM:

This system is maintained for the purpose of considering, deciding and implementing requests for reasonable accommodation made by NASA employees and applicants for employment.

CATEGORIES OF INDIVIDUALS COVERED BY THE SYSTEM:

This system maintains records of requests by (1) NASA employees; or (2) applicants for employment who are seeking reasonable accommodation and also contains the disposition of such requests.

CATEGORIES OF RECORDS IN THE SYSTEM:

Records may include, but are not limited to: requests for reasonable accommodation including supporting documents for such requests; information concerning the nature of the disability or religious belief, practice, or observance and the need for accommodation; medical records or other substantiating documentation; notes or records made during evaluation of such requests; requests for reconsideration or internal Agency appeals; and disposition all requests and appeals.

RECORD SOURCE CATEGORIES:

Individuals themselves; Associate Administrator for Diversity and Equal Opportunity, and all designees, including NASA Center E.O. Directors and Center Disability Program Managers; EEOC officials.

ROUTINE USES OF RECORDS MAINTAINED IN THE SYSTEM, INCLUDING CATEGORIES OF USERS AND PURPOSES OF SUCH USES:

Any disclosures of information will be compatible with the purpose for which the Agency collected the information. Under the following routine uses that are unique to this system of records, information in this system may be disclosed:

(1) to an authorized appeal grievance examiner, formal complaints examiner, administrative judge, equal employment opportunity investigator, arbitrator or other duly authorized official engaged in investigation or settlement of a grievance, complaint or appeal filed by an employee or applicant; (2) to first aid and safety personnel, when appropriate, if the disability might require emergency treatment; (3) to Federal Government officials or any of their assignees charged with the responsibility of investigating NASA's compliance with The Rehabilitation Act of 1973, as amended, or the Genetic Information Nondiscrimination Act of 2008 (GINA), or Title VII of the Civil Rights Act; and (4) to the Office of Management and Budget (OMB), Department of Labor (DOL), Office of Personnel Management (OPM), Equal Employment Opportunity Commission (EEOC), or Office of Special Counsel (OSC) to obtain advice regarding statutory, regulatory, policy, and other requirements related to reasonable accommodation.

In addition, the following Standard Routine Uses of information contained in Systems of Records (SORs), subject to the Privacy Act of 1974, are standard for many NASA systems. Any disclosures of information will be compatible with the purpose for which NASA collected the information.

1. Law Enforcement—When a record on its face, or in conjunction with other information, indicates a violation or potential violation of law, whether civil, criminal or regulatory in nature, and whether arising by general statute or particular program statute, or by regulation, rule, or order, disclosure may be made to the appropriate agency, whether Federal, foreign, State, local, or tribal, or other public authority responsible for enforcing, investigating or prosecuting such violation or charged with enforcing or implementing the statute, or rule, regulation, or order, if NASA determines by careful review that the records or information are both relevant and necessary to any enforcement, regulatory, investigative or prosecutive responsibility of the receiving entity.

2. Certain Disclosures to Other Agencies—A record from this SOR may be disclosed to a Federal, State, or local agency maintaining civil, criminal, or other relevant enforcement information or other pertinent information, such as current licenses, if necessary, to obtain information relevant to a NASA decision concerning the hiring or retention of an employee, the issuance of a security clearance, the letting of a contract, or the issuance of a license, grant, or other benefit.

3. Certain Disclosures to Other Federal Agencies—A record from this SOR may be disclosed to a Federal agency, in response to its request, for a matter concerning the hiring or retention of an employee, the issuance of a security clearance, the reporting of an investigation of an employee, the letting of a contract, or the issuance of a license, grant, or other benefit by the requesting agency, to the extent that the information is relevant and necessary to the requesting agency's decision on the matter.

4. Department of Justice—A record from this SOR may be disclosed to the Department of Justice when a) NASA, or any component thereof; or b) any employee of NASA in his or her official capacity; or c) any employee of NASA in his or her individual capacity where the Department of Justice has agreed to represent the employee; or d) the United States, where NASA determines that litigation is likely to affect NASA or any of its components, is a party to litigation or has an interest in such litigation, and by careful review, the use of such records by the Department of Justice is deemed by NASA to be relevant and necessary to the litigation.

5. Courts—A record from this SOR may be disclosed in an appropriate proceeding before a court, grand jury, or administrative or adjudicative body, when NASA determines that the records are relevant and necessary to the proceeding; or in an appropriate proceeding before an administrative or adjudicative body when the adjudicator determines the records to be relevant and necessary to the proceeding.

6. Response to an Actual or Suspected Compromise or Breach of Personally Identifiable Information—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

7. Contractors—A record from this SOR may be disclosed to contractors, grantees, experts, consultants, students, volunteers, and others performing or working on a contract, service, grant, cooperative agreement, or other assignment for the federal government, when necessary to accomplish a NASA function related to this SOR. Individuals provided information under this routine use are subject to the same Privacy Act requirements and limitations on disclosure as are applicable to NASA employees.

8. Members of Congress—A record from this SOR may be disclosed to a Member of Congress or to a Congressional staff member in response to an inquiry of the Congressional office made at the written request of the constituent about whom the record is maintained.

9. Disclosures to Other Federal Agencies in Response to an Actual or Suspected Compromise or Breach of Personally Identifiable Information—A record from this SOR may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. National Archives and Records Administration—A record from this SOR may be disclosed as a routine use to the officers and employees of the National Archives and Records Administration (NARA) pursuant to records management inspections being conducted under the authority of 44 U.S.C. 2904 and 2906.

11. Audit—A record from this SOR may be disclosed to another agency, or organization for purpose of performing audit or oversight operations as authorized by law, but only such information as is necessary and relevant to such audit or oversight function.

POLICIES AND PRACTICES FOR STORAGE OF RECORDS:

Records in this system are maintained in hard-copy and electronically, and within Agency-wide Intranet database and tracking system.

POLICIES AND PRACTICES FOR RETRIEVAL OF RECORDS:

Records in the system are retrieved by name of the employee or applicant requesting accommodation, case identification number, or NASA Center from which the request originated.

POLICIES AND PRACTICES FOR RETENTION AND DISPOSAL OF RECORDS:

Records are maintained and destroyed in accordance with NPR 1441.1 NASA Records Retention Schedules, Schedule 3 Item 2.6.

ADMINISTRATIVE, TECHNICAL, AND PHYSICAL SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication. Non-electronic records are secured in locked rooms or locked file cabinets.

RECORD ACCESS PROCEDURES:

In accordance with 14 CFR part 1212, Privacy Act—NASA Regulations, information may be obtained by contacting in person or in writing the system or subsystem manager listed above at the location where the records are created and/or maintained. Requests must contain the identifying data concerning the requester, e.g., first, middle, and last name; date of birth; description and time periods of the records desired. NASA Regulations also address contesting contents and appealing initial determinations regarding records access.

CONTESTING RECORD PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

NOTIFICATION PROCEDURES:

In accordance with 14 CFR part 1212, Privacy Act—NASA Regulations, information may be obtained by contacting in person or in writing the system or subsystem manager listed above at the location where the records are created and/or maintained. Requests must contain the identifying data concerning the requester, e.g., first, middle, and last name; date of birth; description and time periods of the records desired. NASA Regulations also address contesting contents and appealing initial determinations regarding records access.

EXEMPTIONS PROMULGATED FOR THE SYSTEM:

None.

HISTORY:

(21-072, 86 FR 217, pp. 63073-63076)

(15-117, 80 FR 246, pp. 79947-79949)

(15-068, 80 FR 193, pp. 60410-60411)

(11-091, 76 FR 200, pp. 64112-64114)

[FR Doc. 2023-16902 Filed 8-7-23; 8:45 am]

BILLING CODE 7510-13-P